DEPARTMENT OF TRANSPORTATION

Federal Aviation Administration

14 CFR Part 39

[Docket No. FAA-2014-0618; Directorate Identifier 2012-NM-171-AD; Amendment 39-18178; AD 2015-12-05]

RIN 2120-AA64

Airworthiness Directives; Airbus Airplanes

AGENCY: Federal Aviation Administration (FAA), Department of Transportation (DOT).

ACTION: Final rule.

SUMMARY: We are superseding Airworthiness Directive (AD) 2008-06-18 for all Airbus Model A300 B4-600, B4-600R, and F4-600R series airplanes, and Model A300 C4-605R Variant F airplanes (collectively called Model A300-600 series airplanes); and Model A300 series airplanes. AD 2008-06-18 required repetitive inspections for any cracking of the wing lower skin panel and associated internal support structure, and if necessary, corrective actions such as modifying the lower panel inboard of rib 9 aft of the rear spar and repairing cracks. This new AD continues to require actions required by AD 2008-06-18, and reduces certain compliance times. This AD was prompted by a report that information from an analysis and a fleet survey shows a need for reduced compliance times and intervals. We are issuing this AD to detect and correct cracking, which could lead to reduced structural integrity of the airplane.

DATES: This AD becomes effective July 21, 2015.

The Director of the Federal Register approved the incorporation by reference of a certain publication listed in this AD as of July 21, 2015.

The Director of the Federal Register approved the incorporation by reference of certain other publications listed in this AD as of April 23, 2008 (73 FR 14670, March 19, 2008).

ADDRESSES: You may examine the AD docket on the Internet at http://www.regulations.gov/#!docketDetail;D=FAA-2014-0618; or in person at the Docket Management Facility, U.S. Department of Transportation, Docket Operations, M-30, West Building Ground Floor, Room W12-140, 1200 New Jersey Avenue SE., Washington, DC.

For service information identified in this AD, contact Airbus SAS Airworthiness Office- EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2014-0618.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Discussion

We issued a notice of proposed rulemaking (NPRM) to amend 14 CFR part 39 to supersede AD 2008-06-18, Amendment 39-15430 (73 FR 14670, March 19, 2008). AD 2008-06-18 applied to all Airbus Model A300 B4-600, B4-600R, and F4-600R series airplanes, and Model A300 C4-605R Variant F airplanes (collectively called Model A300-600 series airplanes); and Model A300 series airplanes. The NPRM published in the Federal Register on September 3, 2014 (79 FR 52263). The NPRM proposed to continue to require repetitive inspections for any cracking of the wing lower skin panel and associated internal support structure, and if necessary, corrective actions such as modifying the lower panel inboard of rib 9 aft of the rear spar and repairing cracks. The NPRM also proposed to reduce some compliance times.

The European Aviation Safety Agency (EASA), which is the Technical Agent for the Member States of the European Union, has issued EASA Airworthiness Directive 2012-0203, dated October 1, 2012 (referred to after this as the Mandatory Continuing Airworthiness Information, or “the MCAI”), to correct an unsafe condition on all Airbus Model A300 B4-600, B4-600R, and F4-600R series airplanes, and Model A300 C4-605R Variant F airplanes (collectively called Model A300-600 series airplanes); and Model A300 series airplanes. The MCAI states:

During routine maintenance, cracks were found in the wing bottom skin and in the associated internal support structure on an A300 aeroplane aft of the rear spar and inboard of rib 9. Initially, cracks were found in the skin only, starting from a fastener close to the forward outboard corner of access panel 575FB/675FB. Subsequently, cases were reported of cracks being found in the skin support strap and the stiffener.

This condition, if not detected and corrected, could affect the structural integrity of the aeroplane.

To address this unsafe condition, EASA issued AD 2006-0282 [http://ad.easa.europa.eu/ad/2006-0282] [which corresponds with FAA AD 2008-06-18, Amendment 39-15430 (73 FR 14670, March 19, 2008)] to require repetitive inspections of the wing lower skin panel and associated internal support structure aft of the rear spar and inboard of rib 9.

Since that [EASA] AD was issued, the results of a fleet survey and updated Fatigue and Damage Tolerance analysis, which were performed in order to substantiate the second A300 and A300-600 Extended Service Goal (ESG2) exercise, revealed that the inspection threshold and interval had to be reduced to allow timely detection of cracks and the accomplishment of an applicable corrective action.

Prompted by these findings, Airbus issued Revision 05 of Airbus Service Bulletin (SB) A300-57-0177 and Revision 07 of Airbus SB A300-57-6029.

For the reasons described above, this [EASA] AD retains the requirements of EASA AD 2006-0282, which is superseded, but requires the accomplishment of those actions within reduced thresholds and intervals.

You may examine the MCAI in the AD docket on the Internet at http://www.regulations.gov/#!documentDetail;D=FAA-2014-0618-0002.

Comments

We gave the public the opportunity to participate in developing this AD. The following presents the comment received on the NPRM (79 FR 52263, September 3, 2014) and the FAA's response to each comment.

Request To Revise Method Used To Determine Compliance Times

United Parcel Service (UPS) requested that the proposed compliance times be revised to be less complex. UPS stated that the proposed compliance times contain a method known as “Average Flight Time” (AFT) which results in a variable flight hour limit and adds an unnecessary complexity to the threshold table and subsequent inspection actions. UPS added that use of the AFT method, along with a lack of standard procedures for implementing the AFT method would create uncertainty for operators and inspectors trying to determine the correct compliance time. UPS stated that in review of prior FAA ADs, including AD 98-18-02, that the FAA does not concur with the AFT compliance time methodology as “. . . such adjustments may not address the unsafe condition in a timely manner” and “. . . they (AFT compliance times) do not fit into the AD tracking process for operators or for Principle Maintenance Inspectors (PMIs) attempting to ascertain compliance with ADs.” UPS compiled a table of fixed compliance times that it suggested would be simpler to use instead of the proposed AFT-based compliance times.

We disagree with the commenter's request to revise the compliance times in this AD. In AD 98-18-02, Amendment 39-10718 (63 FR 45689, August 27, 1998), and certain other ADs, the required actions referred to service information that contained inspection thresholds and intervals based on airplane flight cycles only. Therefore, the FAA did not agree with the use of the “average flight time” (AFT) method to adjust the inspection thresholds and intervals, which were based only on flight cycles. However, for this AD the compliance times in Airbus Service Bulletin A300-57-0177, Revision 05, dated March 23, 2007, and Airbus Service Bulletin A300-57-6029, Revision 08, dated April 25, 2013, have been determined for a combination of flight cycles and flight hours for which the AFT methodology is appropriate.

We acknowledge that a fixed compliance time for a fleet could be easier for operators to schedule and record compliance. Therefore, under the provisions of paragraph (j)(1) of this AD, we will consider requests for approval of an alternative method of compliance (AMOC) if a proposal is submitted that is supported by technical data that includes fatigue and damage tolerance analysis We have not changed this AD in this regard.

Conclusion

We reviewed the available data, including the comment received, and determined that air safety and the public interest require adopting this AD as proposed except for minor editorial changes. We have determined that these minor changes:

• Are consistent with the intent that was proposed in the NPRM (79 FR 52263, September 3, 2014) for correcting the unsafe condition; and

• Do not add any additional burden upon the public than was already proposed in the NPRM (79 FR 52263, September 3, 2014).

Related Service Information Under 1 CFR Part 51

Airbus has issued Service Bulletin A300-57-6029, Revision 08, dated April 25, 2013. The service information describes procedures for inspecting the wing lower skin panel and associated internal support structure aft of the rear spar and inboard of rib 9 and applying applicable corrective measures. This service information is reasonably available because the interested parties have access to it through their normal course of business or by the means identified in the ADDRESSES section of this AD.

Costs of Compliance

We estimate that this AD affects 162 airplanes of U.S. registry.

The actions that were required by AD 2008-06-18, Amendment 39-15430 (73 FR 14670, March 19, 2008), and retained in this AD take about 2 work-hours per product, at an average labor rate of $85 per work-hour. Based on these figures, the estimated cost of the actions that were required by AD 2008-06-18 is $170 per product.

We also estimate that it will take about 2 work-hours per product to comply with the basic requirements of this AD. The average labor rate is $85 per work-hour. Based on these figures, we estimate the cost of this AD on U.S. operators to be $27,540, or $170 per product.

In addition, we estimate that any necessary follow-on actions would take about 12 work-hours and require parts costing $10,000, for a cost of $11,020 per product. We have no way of determining the number of aircraft that might need these actions.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0618; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2008-06-18, Amendment 39-15430 (73 FR 14670, March 19, 2008), and adding the following new AD:

2015-12-05 Airbus: Amendment 39-18178. Docket No. FAA-2014-0618; Directorate Identifier 2012-NM-171-AD.

(a) Effective Date

This AD becomes effective July 21, 2015.

(b) Affected ADs

This AD replaces AD 2008-06-18, Amendment 39-15430 (73 FR 14670, March 19, 2008).

(c) Applicability

This AD applies to the airplanes identified in paragraphs (c)(1) through (c)(5) of this AD, certificated in any category, all certified models, all serial numbers.

(1) Airbus Model A300 B2-1A, B2-1C, B2K-3C, B2-203, B4-2C, B4-103, and B4-203 airplanes.

(2) Airbus Model A300 B4-601, B4-603, B4-620, and B4-622 airplanes.

(3) Airbus Model A300 B4-605R and B4-622R airplanes.

(4) Airbus Model A300 F4-605R and F4-622R airplanes.

(5) Airbus Model A300 C4-605R Variant F airplanes.

(d) Subject

Air Transport Association (ATA) of America Code 57, Wings.

(e) Reason

This AD was prompted by a report that information from an analysis and a fleet survey shows a need for reduced compliance times and intervals. We are issuing this AD to detect and correct cracking, which could lead to reduced structural integrity of the airplane.

(f) Compliance

Comply with this AD within the compliance times specified, unless already done.

(g) Retained Actions and Compliance Times, with Revised Service Information

This paragraph restates the requirements of paragraph (f) of AD 2008-06-18, Amendment 39-15430 (73 FR 14670, March 19, 2008), with revised service information. Unless already done, do the following actions.

(1) Except as provided by paragraphs (g)(1)(i), (g)(1)(ii), (g)(1)(iii), (g)(1)(iv), and (h) of this AD: At the threshold specified in paragraph 1.E.(2), “Accomplishment Timescale,” of Airbus Service Bulletin A300-57-0177, Revision 05, dated March 23, 2007 (for Model A300 series airplanes); Airbus Service Bulletin A300-57-6029, Revision 06, dated March 23, 2007 (for Model A300-600 series airplanes); or Airbus Service Bulletin A300-57-6029, Revision 08, dated April 25, 2013 (for Model A300-600 series airplanes); as applicable; perform the inspection of the wing lower skin panel and associated internal support structure aft of the rear spar and inboard of rib 9 and apply applicable corrective measures in accordance with Airbus Service Bulletin A300-57-0177, Revision 05, dated March 23, 2007 (for Model A300 series airplanes); Airbus Service Bulletin A300-57-6029, Revision 06, dated March 23, 2007 (for Model A300-600 series airplanes); or Airbus Service Bulletin A300-57-6029, Revision 08, dated April 25, 2013 (for Model A300-600 series airplanes); as applicable. All applicable corrective measures must be done at the applicable times specified in paragraph 1.E.(2) and the Accomplishment Instructions of Airbus Service Bulletin A300-57-0177, Revision 05, dated March 23, 2007 (for Model A300 series airplanes); Airbus Service Bulletin A300-57-6029, Revision 06, dated March 23, 2007 (for Model A300-600 series airplanes); or Airbus Service Bulletin A300-57-6029, Revision 08, dated April 25, 2013 (for Model A300-600 series airplanes); as applicable. Accomplishing the requirements of paragraph (h) of this AD terminates the requirements of this paragraph for Model A300-600 airplanes.

(i) Where the tables in paragraph 1.E.(2), “Accomplishment Timescale,” of Airbus Service Bulletin A300-57-0177, Revision 05, dated March 23, 2007; and Airbus Service Bulletin A300-57-6029, Revision 06, dated March 23, 2007; specify a grace period for doing the actions, this AD requires that the actions be done within the specified grace period relative to April 23, 2008 (the effective date of AD 2008-06-18, Amendment 39-15430 (73 FR 14670, March 19, 2008)).

(ii) Where the tables in paragraph 1.E.(2)(e), “Config 04,” of Airbus Service Bulletin A300-57-0177, Revision 05, dated March 23, 2007, specify an inspection interval but not an initial threshold, this AD requires that the actions be done within the specified interval after inspecting in accordance with Table 1A or 1B, as applicable, for Configuration 01 airplanes described in the Airbus Service Bulletin A300-57-0177, Revision 05, dated March 23, 2007, and thereafter at the inspection interval specified in the tables in paragraph 1.E.(2)(e), “Config 04,” of Airbus Service Bulletin A300-57-0177, Revision 05, dated March 23, 2007.

(iii) Where the tables in paragraph 1.E.(2)(f), “Config 05,” of Airbus Service Bulletin A300-57-6029, Revision 06, dated March 23, 2007, specify an inspection interval but not an initial threshold, this AD requires that the actions be done within the specified interval after inspecting in accordance with Table 1A, or 1B, as applicable, for Configuration 01 airplanes described in Airbus Service Bulletin A300-57-6029, Revision 06, dated March 23, 2007, and thereafter at the inspection interval specified in the tables in paragraph 1.E.(2)(f), “Config 05,” of Airbus Service Bulletin A300-57-6029, Revision 06, dated March 23, 2007.

(iv) All crack lengths specified in Airbus Service Bulletin A300-57-0177, Revision 05, dated March 23, 2007; and Airbus Service Bulletin A300-57-6029, Revision 06, dated March 23, 2007, are considered “not to exceed” lengths.

(2) Repeat the inspection at the intervals in, and according to the instructions defined in, Airbus Service Bulletin A300-57-0177, Revision 05, dated March 23, 2007 (for Model A300 series airplanes); Airbus Service Bulletin A300-57-6029, Revision 06, dated March 23, 2007 (for Model A300-600 series airplanes); or Airbus Service Bulletin A300-57-6029, Revision 08, dated April 25, 2013 (for Model A300-600 series airplanes); as applicable; except where Airbus Service Bulletin A300-57-0177, Revision 05, dated March 23, 2007, specifies repetitive inspections for cracking if Airbus Service Bulletin A300-57-022 has not been embodied, this AD requires doing repetitive inspections for cracking if Airbus Service Bulletin A300-57-0222 (modification 11178H5410) has not been embodied.

(3) Report to Airbus the first inspection results, whatever they may be, at the applicable time specified in paragraph (g)(3)(i) or (g)(3)(ii) of this AD.

(i) If the inspection was done after April 23, 2008 (the effective date of AD 2008-06-18, Amendment 39-15430 (73 FR 14670, March 19, 2008)), submit the report within 30 days after the inspection.

(ii) If the inspection was accomplished prior to April 23, 2008 (the effective date of AD 2008-06-18, Amendment 39-15430 (73 FR 14670, March 19, 2008)), submit the report within 30 days after April 23, 2008.

(h) New Requirement of This AD: New Compliance Times for Model A300-600 Series Airplanes

For Model A300-600 series airplanes, do the actions specified in paragraphs (h)(1) through (h)(3) of this AD at the applicable times specified in those paragraphs.

(1) Except as provided by paragraphs (h)(1)(i) and (h)(1)(ii) of this AD: Within the compliance times specified in Airbus Service Bulletin A300-57-6029, Revision 08, dated April 25, 2013, perform the inspection of the wing lower skin panels and associated internal support structures aft of the rear spar and inboard of rib 9, in accordance with the Accomplishment Instructions of Airbus Service Bulletin A300-57-6029, Revision 08, dated April 25, 2013. Thereafter, repeat these inspections at intervals specified in Airbus Service Bulletin A300-57-6029, Revision 08, dated April 25, 2013. Accomplishment of the actions required by this paragraph terminates the requirements of paragraph (g) of this AD for Model A300-600 airplanes.

(i) Where the tables in paragraph 1.E.(2), “Accomplishment Timescale,” of Airbus Service Bulletin A300-57-6029, Revision 08, dated April 25, 2013, specify a grace period for doing the actions for airplanes that have exceeded the thresholds, this AD requires, for all airplanes, that the actions be done within the specified grace period after the effective date of this AD or before the specified thresholds, whichever occurs later.

(ii) Where Airbus Service Bulletin A300-57-6029, Revision 08, dated April 25, 2013, specifies to “contact Airbus” before further flight, this AD requires repairing using a method approved by the Manager, International Branch, ANM-116, Transport Airplane Directorate, FAA; or European Aviation Safety Agency (EASA); or Airbus's EASA Design Organization Approval (DOA); and accomplishing those actions before further flight. If approved by the DOA, the approval must include the DOA-authorized signature.

(2) If, during any inspection as required by paragraph (h)(1) of this AD, discrepancies are detected, before next flight, accomplish the applicable corrective actions, in accordance with the Accomplishment Instructions of Airbus Service Bulletin A300-57-6029, Revision 08, dated April 25, 2013.

(3) Corrective actions, as required by paragraph (h)(2) of this AD, do not constitute terminating action for the repetitive inspection requirements of paragraph (h)(1) of this AD.

(i) Credit for Previous Actions

(1) This paragraph provides credit for actions required by paragraph (g) of this AD, if those actions were performed before April 23, 2008 (the effective date of AD 2008-06-18, Amendment 39-15430 (73 FR 14670, March 19, 2008)), using the applicable service information identified in paragraphs (i)(1)(i) through (i)(1)(iv) of this AD, which are not incorporated by reference by this AD.

(i) Airbus Service Bulletin A300-57-0177, Revision 03, dated May 29, 2006 (for Model A300 series airplanes).

(ii) Airbus Service Bulletin A300-57-0177, Revision 04, dated January 5, 2007 (for Model A300 series airplanes).

(iii) Airbus Service Bulletin A300-57-6029, Revision 04, dated May 29, 2006 (for Model A300-600 series airplanes).

(iv) Airbus Service Bulletin A300-57-6029, Revision 05, dated October 23, 2006 (for Model A300-600 series airplanes).

(2) This paragraph provides credit for actions required by paragraph (g) or (h) of this AD, if those actions were performed before the effective date of this AD, using Airbus Service Bulletin A300-57-6029, Revision 07, dated June 6, 2011 (for Model A300-600 series airplanes), which is not incorporated by reference by this AD.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-2125; fax 425-227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOCs approved previously for AD 2008-06-18, Amendment 39-15430 (73 FR 14670, March 19, 2008), are approved as AMOCs for the corresponding requirements of this AD.

(2) Contacting the Manufacturer: As of the effective date of this AD, for any requirement in this AD to obtain corrective actions from a manufacturer, the action must be accomplished using a method approved by the Manager, International Branch, ANM-116, Transport Airplane Directorate, FAA; or the EASA; or Airbus's EASA DOA. If approved by the DOA, the approval must include the DOA-authorized signature.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(k) Related Information

(1) Refer to Mandatory Continuing Airworthiness Information (MCAI) EASA Airworthiness Directive 2012-0203, dated October 1, 2012, for related information. This MCAI may be found in the AD docket on the Internet at http://www.regulations.gov by searching for and locating Docket No. FAA-2014-0618.

(2) Service information identified in this AD that is not incorporated by reference is available at the addresses specified in paragraphs (l)(5) and (l)(6) of this AD.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on July 21, 2015.

(i) Airbus Service Bulletin A300-57-6029, Revision 08, dated April 25, 2013.

(ii) Reserved.

(4) The following service information was approved for IBR on April 23, 2008 (73 FR 14670, March 19, 2008).

(i) Airbus Service Bulletin A300-57-0177, Revision 05, dated March 23, 2007.

(ii) Airbus Service Bulletin A300-57-6029, Revision 06, dated March 23, 2007.

(5) For service information identified in this AD, contact Airbus SAS Airworthiness Office—EAW, 1 Rond Point Maurice Bellonte, 31707 Blagnac Cedex, France; telephone +33 5 61 93 36 96; fax +33 5 61 93 44 51; email account.airworth-eas@airbus.com; Internet http://www.airbus.com.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on June 3, 2015.
Michael Kaszycki,
Acting Manager, Transport Airplane Directorate, Aircraft Certification Service.

[FR Doc. 2015-14283 Filed 6-15-15; 8:45 am]

BILLING CODE 4910-13-P